DEFENSE NUCLEAR FACILITIES SAFETY BOARD

Sunshine Act Meetings

TIME AND DATE: 3:00 p.m., September 28, 2020.

PLACE: This meeting was held via teleconference.

STATUS: Closed. During the closed meeting, the Board Members discussed issues dealing with potential Recommendations to the Secretary of Energy. The Board invoked the Exemption to close a meeting described in 5 U.S.C. 552b(c)(3) and 10 CFR 1704.4(c). The Board determined that it was necessary to close the meeting since conducting an open meeting was likely to disclose matters that are specifically exempted from disclosure by statute. In this case, the deliberations pertained to potential Board Recommendations which, under 42 U.S.C. 2286d(b) and (h)(3), may not be made publicly available until after they have been received by the Secretary of Energy or the President, respectively.

MATTERS TO BE CONSIDERED: The meeting proceeded in accordance with the closed meeting agenda that is posted on the Board's public website at www.dnfsb.gov. Technical staff may have presented information to the Board. The Board Members were expected to conduct deliberations regarding potential Recommendations to the Secretary of Energy.

CONTACT PERSON FOR MORE INFORMATION: Tara Tadlock, Director of Board Operations, Defense Nuclear Facilities Safety Board, 625 Indiana Avenue NW, Suite 700, Washington, DC 20004-2901, (800) 788-4016. This is a toll-free number.

Dated: September 25, 2020.
Joyce L. Connery,
Acting Chairman.

[FR Doc. 2020-21651 Filed 9-25-20; 4:15 pm]

BILLING CODE 3670-01-P